DEPARTMENT OF THE INTERIOR

Geological Survey

Technology Transfer Act of 1986; Chevron Research and Technology Co.

AGENCY: Geological Survey, Interior.

ACTION: Notice of Proposed Cooperative Research & Development Agreement (CRADA) Negotiations.

SUMMARY: The United States Geological Survey (USGS) is contemplating entering into a Cooperative Research and Development Agreement (CRADA) with the Chevron Research and Technology Company, a division of Chevron U.S.A. Inc. for the purpose of evaluating hyperspectral remote sensing technology that permits the rapid assessment of vegetation type.

INQUIRIES: If any other parties are interested in similar activities with the USGS, please contact Delores Richardson, Administrative Officer, USGS National Wetlands Research Center, 700 Cajundome Blvd., Lafayette, LA 70506, phone (337) 266-8515.

SUPPLEMENTARY INFORMATION: This notice is submitted to meet the USGS requirements stipulated in Survey Manual Chapter 500.20.

Susan Haseltine,
Chief Scientist for Biology.

[FR Doc. 01-10815 Filed 4-30-01; 8:45 am]

BILLING CODE 4310-17-M